DEPARTMENT OF JUSTICE

Antitrust Division

United States v. Sprint Corp. and Joint Venture Co., Civil No. 95-1304 (D.D.C.); United States' Notice of Proposed Medication of the Final Judgment

Notice is hereby given that the United States and both Sprint Corporation (“Sprint”) and Equant N.V. (“Equant”), defendants in the above-captioned matter, have entered into a Stipulation to modify the Final Judgment entered by the United States District Court for the District of Columbia on February 16, 1996. In this Stipulation filed with the Court, the United States has provisionally consented to modification of the Final Judgment, but has reserved the right to withdraw its consent pending receipt of public comments.

On July 13, 1995, the United States filed the complaint in this case. The complaint alleged that the sale of 20% of the voting shares of Sprint to France Telecom (“FT”) and Deutsche Telekom A.G. (“DT”) and the formation of a joint venture among Sprint, FT and DT to provide certain international telecommunications services, would violate section 7 of the Clayton Act, as amended, 15 U.S.C. 18, in the markets for international telecommunications services between the United States and France and the United States and Germany, and in the markets for seamless international telecommunications services. At the same time as it filed the Complaint, the United States filed a proposed Final Judgment to resolve the competitive concerns alleged in the Complaint, and a stipulation by defendants and the United States consenting thereto.

At the time of the entry of the Final Judgment, Joint Venture Co. was the proposed joint venture of Sprint, FT and DT. Subsequently, the joint venture was formed and given the name Global One. In January 2000, Sprint, FT and DT agreed to terminate their joint venture, with FT acquiring sole ownership of the former joint venture, but Global One continued to be bound by the Final Judgment as the successor to the joint venture. In July 2001 Global One was acquired by Equant N.V., and FT acquired majority ownership and control of Equant. Therefore, Equant, as the successor to Global One, is now identified as the defendant that was referred to as Joint Venture Co. in the Final Judgment, and is substituted for Joint Venture Co. in the proposed Modified Final Judgment.

The Final Judgment, which was entered by consent of the parties on February 16, 1996, includes various restrictions affecting Sprint and Equant's relationship to FT and DT. These restrictions operated in two distinct phases, lessening over time as competition developed in France and in Germany. The Phase I restrictions, contained in Section III of the Final Judgment, were terminated by the Court on November 2, 1998, pursuant to a stipulation between the United States and the defendants, in recognition of competitive developments in France and Germany. Defendants continue to be subject to the substantive obligations of Section II of the Final Judgment until January 1, 2003. The Section II obligations, which are intended to prevent Equant and Sprint from receiving competitive advantages from their association with FT and DT: (1) Require Equant and Sprint to disclose certain information related to prices, terms and conditions of certain FT and DT telecommunications products and services that are provided in France or in Germany or between France and Germany and the United States and are used by Equant or Sprint; (2) preclude Equant and Sprint from receiving competitively sensitive information from FT and DT that FT and DT obtain from the competitors of Equant and Sprint; and (3) prohibit Equant and Sprint from offering certain services between the United States and France and Germany unless other United States providers also have or can readily obtain licenses from the French and German governments to offer the same service.

The United States and defendants Sprint and Equant have provisionally agreed to modify the Final Judgment because of changed circumstances in the relationship between Equant and Sprint, and FT and DT. In June 2001, FT and DT sold their ownership interests in Sprint's FON stock, which formed the basis of the United States' concern about FT's and DT's acquisition of 10% interests in Sprint, and Sprint sold its Global One ownership interest to FT on February 22, 2000. These events form the basis for the proposed termination of the Final Judgment with respect to Sprint. Furthermore, DT ceased to be an owner of Global One even before Global One was acquired by Equant, having sold its interest to FT pursuant to an agreement reached on January 26, 2000. Therefore, the Final Judgment is also proposed to be modified to eliminate any obligations related to DT's relationship with Equant. Certain provisions of the Final Judgment applicable to Equant's relationship with FT will remain in force, in order to safeguard against anticompetitive conduct by FT favoring Equant. Other provisions of the Final Judgment relating to FT's relationship to Equant will be terminated because they are redundant of other regulatory requirements or superfluous in light of market developments. The provisions that will remain are the reporting requirements of certain information related to the prices, terms and conditions of FT products and services sold by FT to Equant.

The United States has filed a memorandum with the Court setting forth the reasons it believes modification of the Final Judgment would serve the public interest. Copies of the joint Judgment, the stipulation containing the United States' provisional consent to modification of the Final Judgment, the supporting memorandum, and all additional papers filed with the Court in connection with this motion are available for inspection as the Antitrust Documents Group of the Antitrust Division, U.S. Department of Justice, 325 7th Street, NW., Room 215 North, Liberty Place Building, Washington, DC 20530, and at the Office of the Clerk of the United States District Court for the District of Columbia, 333 Constitution Avenue, NW., Washington, DC 2001. Copies of these materials may be obtained from the Antitrust Division upon request and payment of the duplicating fee set out in Department of Justice regulations.

Interested persons may submit comments regarding the proposed termination to the Department of Justice. Such comments must be received by the Antitrust Division within sixty (60) days of the last publication of notices appearing in the Wall Street Journal and Communications Week International, and will be filed with the Court by the Department. Comments should be addressed to Lawrence M. Frankel, Acting Chief, Telecommunications Task Force, Antitrust Division, U.S. Department of Justice, 1401 H. St., NW., Suite 8000, Washington, DC 20530.

Constance K. Robinson,
Director of Operations & Merger Enforcement.

[FR Doc. 02-4435 Filed 2-22-02; 8:45 am]

BILLING CODE 4410-11-M